DEPARTMENT OF COMMERCE

International Trade Administration

[A-570-848]

Freshwater Crawfish Tail Meat from the People's Republic of China: Notice of Final Results And Rescission, In Part, of 2004/2005 Antidumping Duty Administrative and New Shipper Reviews

AGENCY: Import Administration, International Trade Administration, Department of Commerce.

SUMMARY: On October 10, 2006, the Department of Commerce (“the Department”) published the preliminary results of its administrative and new shipper reviews of the antidumping duty order on freshwater crawfish tail meat from the People's Republic of China (“PRC”). See Freshwater Crawfish Tail Meat From the People's Republic of China: Preliminary Results and Partial Rescission of the 2004/2005 Administrative and New Shipper Reviews, 71 FR 59432 (October 10, 2006) (Preliminary Results). Based on our analysis of the record, including information obtained since the preliminary results, we have made changes to the margin calculations for Xiping Opeck Food Co., Ltd. (“Xiping Opeck”), Xuzhou Jinjiang Foodstuffs Co., Ltd. (“Xuzhou Jinjiang”) and Qingdao Jinyongxiang Aquatic Foods Co., Ltd. (“Qingdao JYX”). See Final Results of Review section, below.

EFFECTIVE DATE: April 17, 2007.

FOR FURTHER INFORMATION CONTACT: Scot Fullerton or Erin Begnal, AD/CVD Operations, Office 9, Import Administration, International Trade Administration, U.S. Department of Commerce, 14th Street and Constitution Avenue, NW., Washington, DC 20230; telephone: (202) 482-1386 or (202) 482-1442, respectively.

SUPPLEMENTARY INFORMATION:

Background

On October 10, 2006, the Department published the preliminary results of its administrative and new shipper reviews of the antidumping duty order on freshwater crawfish tail meat from the PRC, and invited parties to comment on the preliminary results. See Preliminary Results. The administrative review covers six exporters or producer/exporters: (1) Jiangsu Jiushoutang Organisms-Manufactures Co., Ltd. (“Jiangsu JOM”); (2) Shanghai Sunbeauty Trading Co., Ltd. (“Shanghai Sunbeauty”); (3) Qingdao JYX; and (4) Qingdao Wentai Trading Co., Ltd. (“Qingdao Wentai”); (5) Yancheng Hi-King Agriculture Developing Co., Ltd. (“Yancheng Hi-King”); and (6) Xuzhou Jinjiang.¹ The period of review (“POR”) for all respondents subject to this administrative review is September 1, 2004, through August 31, 2005.² The new shipper review covers two producer/exporters: (1) Xiping Opeck; and (2) Xuzhou Jinjiang. The period of review for Xiping Opeck is September 1, 2004, through August 31, 2005, while the period of review for Xuzhou Jinjiang is September 1, 2004, through October 5, 2005.

¹ Xuzhou Jinjiang is a participant in both the administrative review and new shipper review.

² On July 3, 2006, the Department issued its notice of rescission of antidumping duty new shipper reviews of Jiangsu JOM, Shanghai Sunbeauty and Qingdao Wentai, for the period September 1, 2004, and February 28, 2005. See Notice of Rescission of Antidumping Duty New Shipper Reviews: Freshwater Crawfish Tail Meat from the People's Republic of China, 71 FR 37902 (July 3, 2006) (“Rescission of New Shipper Review”). Accordingly, this administrative review only covers these companies' entries not already covered by the above-referenced new shipper reviews. Therefore, this administrative review, for Jiangsu JOM, Shanghai Sunbeauty and Qingdao Wentai, covers entries from March 1, 2005, through August 31, 2005.

On October 30, 2006, subsequent to the issuance of the Preliminary Results, the Department received publicly available information, for purposes of valuing factors of production, from the Crawfish Processors Alliance, the Louisiana Department of Agriculture and Forestry, and Bob Odom, Commissioner (collectively, “Domestic Parties”), pursuant to 19 CFR 351.301(c)(3). See Letter to the U.S. Department of Commerce, from Domestic Parties, regarding Freshwater Crawfish Tail Meat from the People's Republic of China: 2004-05 Administrative Review (October 30, 2006); see also Freshwater Crawfish Tail Meat from the People's Republic of China: 2004-05 New Shipper Review (October 30, 2006). On November 9, 2006, Xuzhou Jinjiang submitted rebuttal surrogate value information responding to Domestic Parties' October 30, 2006, surrogate value information. See Letter to the U.S. Department of Commerce, from Xuzhou Jinjiang, regarding Freshwater Crawfish Tail Meat from the People's Rep. of China; Surrogate Value Rebuttal (November 9, 2006).

On November 9, 2006, the Department also received case briefs from Domestic Parties as well as Xuzhou Jinjiang. See Case Brief from Domestic Parties, regarding Freshwater Crawfish Tail Meat from the People's Republic of China: 2004-05 Administrative Review (November 9, 2006), Case Brief from Domestic Parties, regarding Freshwater Crawfish Tail Meat from the People's Republic of China: 2004-05 New Shipper Review (November 9, 2006), Case Brief from Xuzhou Jinjiang, regarding Freshwater Crawfish Tail Meat from the People's Republic Of China; Comment on the Preliminary Results (November 9, 2006). Additionally, on November 14, 2006, we received rebuttal briefs from Domestic Parties and Xuzhou Jinjiang. See Freshwater Crawfish Tail Meat From the People's Republic of China: Petitioner's Rebuttal Brief (April 14, 2006); see also Rebuttal Brief from Domestic Parties, regarding Freshwater Crawfish Tail Meat from the People's Republic of China: 2004-05 New Shipper Review (November 14, 2006); and Rebuttal Brief from Xuzhou Jinjiang, regarding Freshwater Crawfish Tail Meat from the People's Rep. Of China; Comment on the Preliminary Results (November 14, 2006). No case briefs were submitted by Jiangsu JOM, Shanghai Sunbeauty, or Qingdao Wentai. Although petitioners initially requested a hearing in the administrative and new shipper reviews, this request was subsequently withdrawn.

On February 2, 2007, the Department placed revised expected non-market economy (“NME”) wage rates on its website, (see http://ia.ita.doc.gov/wages/index.html) and offered interested parties an opportunity to submit comments on these revised wage rates, as the period for submission of case briefs and rebuttal briefs had already passed. On February 7, 2007, Xuzhou Jinjiang submitted comments on the revised wage rates. See Xuzhou Jinjiang Wage Rate Comments, dated February 7, 2007. No other comments on the revised wage rates were submitted.

Scope of Order

The product covered by this antidumping duty order is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTSUS) under item numbers 1605.40.10.10 and 1605.40.10.90, which are the HTSUS numbers for prepared foodstuffs, indicating peeled crawfish tail meat and other, as introduced by U.S. Customs and Border Protection (“CBP”) in 2000, and HTSUS numbers 0306.19.00.10 and 0306.29.00.00, which are reserved for fish and crustaceans in general. The HTSUS subheadings are provided for convenience and customs purposes only. The written description of the scope of this order is dispositive.

Separate Rates

Qingdao JYX, Xiping Opeck, and Xuzhou Jinjiang have requested separate, company-specific antidumping duty rates. In our preliminary results, we found that Qingdao JYX, Xiping Opeck, and Xuzhou Jinjiang had met the criteria for the application of a separate antidumping duty rate. See Preliminary Results. We have not received any information since the Preliminary Results with respect to Qingdao JYX, Xiping Opeck, and Xuzhou Jinjiang which would warrant reconsideration of our separate-rates determinations with respect to these companies. Therefore, for these final results, we will continue to calculate company-specific separate rates for these respondents.

Partial Rescission of Administrative Review

In the Preliminary Results, the Department stated its intention to partially rescind the administrative review for Yancheng Hi-King, as the firm informed the Department that it did not export the subject merchandise to the United States during the POR. The Department also stated its intention to rescind the administrative review for Qingdao Wentai, as the Department determined that Qingdao Wentai's single sale, covered by both the new shipper review and administrative review, was not bona fide and could not serve as the basis for the calculation of a dumping margin. See Rescission of New Shipper Review. No comments on the Department's intention to rescind the administrative review for Yancheng Hi-King and Qingdao Wentai were submitted by any interested party. Therefore, for the reasons stated above, we are rescinding the administrative review with respect to Yancheng Hi-King and Qingdao Wentai. See 19 CFR 351.213(d)(3).

Adverse Facts Available - Jiangsu JOM & Shanghai Sunbeauty

For purposes of the Preliminary Results, the Department applied facts available to sales by Jiangsu JOM and Shanghai Sunbeauty, as Jiangsu JOM would not permit the Department to verify information placed on the record, and Shanghai Sunbeauty informed the Department that it would not participate further in this review and did not respond to the Department's requests for information. Therefore, we determined that neither company cooperated to the best of its ability. See Memorandum to James C. Doyle, Director, from Christopher D. Riker, Program Manager, regarding Freshwater Crawfish Tail Meat from the People's Republic of China: Preliminary Application of Adverse Facts Available to Shanghai Sunbeauty Trading Co., Ltd., dated October 2, 2006, and Memorandum to James C. Doyle, Director, from Christopher D. Riker, Program Manager, regarding Freshwater Crawfish Tail Meat from the People's Republic of China: Preliminary Application of Adverse Facts Available to Jiangsu Jiushoutang Organisms-Manufacturers Co., Ltd., dated October 2, 2006. No comments on this determination were submitted by any interested party. Therefore, for the reasons stated above, we find it appropriate, pursuant to sections 776(a)(2)(D) and 776(b) of the Tariff Act of 1930, as amended (“the Act”), to use adverse facts available (“AFA”) as the basis for the final results of review for Jiangsu JOM and Shanghai Sunbeauty, which are part of the PRC-wide entity, as the Department was unable to verify Jiangsu JOM's and Shanghai Sunbeauty's questionnaire responses concerning their eligibility for a separate rate. Consistent with the statute, court precedent, and its normal practice, the Department has assigned the rate of 223.01 percent, the highest rate on the record of any segment of the proceeding, to the PRC-wide entity (including Shanghai Sunbeauty and Jiangsu JOM) as AFA. See, e.g., Freshwater Crawfish Tail Meat From the People's Republic of China: Notice of Final Results of Antidumping Duty Administrative Review, and Final Partial Rescission of Antidumping Duty Administrative Review, 67 FR 19546 (April 22, 2002). As discussed further below, this rate has been corroborated.

Corroboration of Secondary Information

Section 776(c) of the Act provides that, when the Department relies on the facts otherwise available and on “secondary information,” the Department shall, to the extent practicable, corroborate that information from independent sources reasonably at the Department's disposal. To “corroborate” means to determine that the information used has probative value. See Statement of Administrative Action (“SAA”) accompanying the Uruguay Round Agreements Act (“URAA”), H.R. Rep. No. 103-316 at 870 (1994). The Department has determined that to have probative value, information must be reliable and relevant. See SAA at 870; see also Tapered Roller Bearings and Parts Thereof, Finished and Unfinished from Japan, 61 FR 57391, 57392 (November 6, 1996). The SAA also states that independent sources used to corroborate such evidence may include, for example, published price lists, official import statistics and customs data, and information obtained from interested parties during the particular investigation. See Preliminary Determination of Sales at Less Than Fair Value: High and Ultra-High Voltage Ceramic Station Post Insulators from Japan, 68 FR 35627 (June 16, 2003), unchanged in Notice of Final Determination of Sales at Less Than Fair Value: High and Ultra-High Voltage Ceramic Station Post Insulators from Japan, 68 FR 62560 (November 5, 2003); and Final Determination of Sales at Less Than Fair Value: Live Swine from Canada, 70 FR 12181 (March 11, 2005).

The reliability of the AFA rate was determined by the calculation of the margin based on sales and production data of a respondent in a prior review, and on the most appropriate surrogate value information available to the Department, chosen from submissions by the parties in that review, as well as information gathered by the Department itself. Furthermore, the calculation of this margin was subject to comment from interested parties in the proceeding Freshwater Crawfish Tail Meat from the People's Republic of China: Notice of Final Results of Antidumping Duty Administrative Revew, and Final Partial Rescission of Antidumping Duty Administrative Review, 67 FR 19546 (April 22, 2002) (“1999-2000 Review”). The Department has received no information to date that warrants revisiting the issue of the reliability of the rate calculation itself. This rate has been used as AFA in every subsequent segment of this proceeding and the Department has received no comments challenging the reliability of the margin. No information has been presented in the current review. Thus, the Department finds that the margin calculated in the 1999-2000 review is reliable.

With respect to the relevance aspect of corroboration, the Department will consider information reasonably at its disposal to determine whether a margin continues to have relevance. Where circumstances indicate that the selected margin is not appropriate as AFA, the Department will disregard the margin and determine an appropriate margin. For example, in Fresh Cut Flowers from Mexico: Final Results of Antidumping Administrative Review, 61 FR 6812 (February 22, 1996), the Department disregarded the highest margin in that case as adverse best information available (the predecessor to facts available) because the margin was based on another company's uncharacteristic business expense resulting in an unusually high margin. Similarly, the Department does not apply a margin that has been discredited. See D & L Supply Co. v. United States, 113 F.3d 1220, 1221 (Fed. Cir. 1997) (the Department will not use a margin that has been judicially invalidated). None of these unusual circumstances are present here. As there is no information on the record of this review that indicates that this rate is not relevant as AFA for the PRC-wide entity, we determine that this rate is relevant. Because the rate is both reliable and relevant it has probative value. Accordingly, we determine that the highest rate determined in any segment of this administrative proceeding (i.e., 223.01 percent) is corroborated (i.e., it has probative value).

Analysis of Comments Received

In the case and rebuttal briefs received from the parties after the Preliminary Results, we received comments on the surrogate values used to value labor, overhead, selling, general and administrative expenses (“SG&A”), and profit. We also received comments regarding the bona fides of Xuzhou Jinjiang's POR sales. Moreover, we received additional comments from Xuzhou Jinjiang in response to the Department's February 2, 2007, request for comments on the revised expected NME wage rates. All issues raised in the case briefs and wage rate comments are addressed in the Memorandum to David Spooner, Assistant Secretary for Import Administration, from Stephen J. Claeys, Deputy Assistant Secretary for Import Administration, regarding Issues and Decision Memorandum for the Final Results in the 2004/2005 Administrative and New Shipper Reviews of Freshwater Crawfish Tail Meat from the People's Republic of China (April 9, 2007) (“Issues and Decision Memorandum”), which is hereby adopted by this notice. A list of the issues raised, all of which are in the Issues and Decision Memorandum, is attached to this notice as Appendix I. Parties can find a complete discussion of all issues raised in the briefs and the corresponding recommendations in this public memorandum on file in the Central Records Unit (“CRU”), room B-099 of the Herbert H. Hoover Building. In addition, a complete version of the Issues and Decision Memorandum can be accessed directly on the Web at http://ia.ita.doc.gov. The paper copy and electronic version of the Issues and Decision Memorandum are identical in content.

Changes Since the Preliminary Results

Based on the comments received from the interested parties, we have made changes to the margin calculations for Qingdao JYX, Xiping Opeck, and Xuzhou Jinjiang. For the final results, we have updated the surrogate value for labor. For a discussion of these changes, see the Issues and Decision Memorandum at Comment 2.

Final Results of Review

We determine that the following antidumping duty margins exist:

Freshwater Crawfish Tail Meat from the PRC
Manufacturer/Exporter | Weighted-Average Margin (Percent)
Qingdao Jinyongxiang Aquatic Foods Co., Ltd. | 50.98
Xiping Opeck Food Co., Ltd. | 34.85
Xuzhou Jinjiang Foodstuffs Co., Ltd. | 0.00
PRC-wide Rate(including Jiangsu Jiushoutang Organisms-Manufactures Co., Ltd. and Shanghai Sunbeauty Trading Co., Ltd.) | 223.01

For details on the calculation of the antidumping duty margin for Qingdao JYX, Xiping Opeck, and Xuzhou Jinjiang, see Memorandum to the File, through Christopher D. Riker, Program Manager from Scot Fullerton, Senior International Trade Analyst, regarding Freshwater Crawfish Tail Meat From the People's Republic of China - Analysis Memorandum for the Final Results of Administrative Review of Qingdao Jinyongxiang Aquatic Foods Co., Ltd. (April, 9, 2007), Memorandum to the File, through Christopher D. Riker, Program Manager, from Erin Begnal, Senior International Trade Analyst, regarding Freshwater Crawfish Tail Meat From the People's Republic of China - Analysis Memorandum for the Final Results of New Shipper Review of Xiping Opeck Food Co., Ltd. (April, 9, 2007), and Memorandum to the File, through Christopher D. Riker, Program Manager, from Scot Fullerton, Senior International Trade Analyst, regarding Freshwater Crawfish Tail Meat From the People's Republic of China - Analysis Memorandum for the Final Results of New Shipper Review of Xuzhou Jinjiang Foodstuffs Co., Ltd. (April, 9, 2007). Public versions of these memoranda are on file in the CRU.

Assessment of Antidumping Duties

The Department will determine, and CBP shall assess, antidumping duties on all appropriate entries. The Department will issue appropriate assessment instructions directly to CBP within 15 days of publication of the final results of this review. For assessment purposes for companies with a calculated rate, where possible, the Department calculated importer-specific assessment rates for freshwater crawfish tail meat from the PRC on a per-unit basis. Specifically, the Department divided the total dumping margins (calculated as the difference between normal value and export price) for each importer by the total quantity of subject merchandise sold to that importer during the POR to calculate a per-unit assessment amount. The Department will direct CBP to assess importer-specific assessment rates based on the resulting per-unit (i.e., per-kilogram) rates by the weight in kilograms of each entry of the subject merchandise during the POR.

Cash Deposits

The following cash-deposit requirements will be effective upon publication of the final results for shipments of the subject merchandise entered, or withdrawn from warehouse, for consumption on or after the publication date of the final results, as provided by section 751(a)(2)(C) of the Act: (1) for subject merchandise exported by Qingdao JYX, Xiping Opeck, and Xuzhou Jinjiang, we will establish a per-kilogram cash deposit rate which will be equivalent to the company-specific weighted-average margin established in this review; (2) the cash-deposit rate for PRC exporters who received a separate rate in a prior segment of the proceeding will continue to be the rate assigned in that segment of the proceeding; (3) for all other PRC exporters of subject merchandise which have not been found to be entitled to a separate rate (including Shanghai Sunbeauty and Jiangsu JOM), the cash-deposit rate will be the PRC-wide rate of 223.01 percent; (4) for all non-PRC exporters of subject merchandise, the cash-deposit rate will be the rate applicable to the PRC exporter that supplied that exporter.

These deposit requirements, when imposed, shall remain in effect until publication of the final results of the next administrative review.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

These reviews and notice are in accordance with sections 751(a)(1), 751(a)(2) and 777(i)(1) of the Act and 19 CFR 351.221(b)(5).

Dated: April 9, 2007.
David M. Spooner,
Assistant Secretary for Import Administration.

Appendix I

General Issues

Comment 1: Surrogate Financial Ratios

Comment 2: Surrogate Wage Rate

Company-Specific Issues

Comment 3: Bona Fides of Xuzhou Jinjiang Foodstuffs Co., Ltd.'s Sales

[FR Doc. E7-7199 Filed 4-16-07; 8:45 am]

BILLING CODE 3510-DS-S